DEPARTMENT OF TRANSPORTATION

Federal Aviation Administration

[Docket No. FAA-2004-19058; FAA Order 5050.4B]

National Environmental Policy Act (NEPA) Implementing Instructions for Airport Actions

AGENCY: Federal Aviation Administration, DOT.

ACTION: Notice of availability of Order 5050.4B and its preamble.

SUMMARY: The Federal Aviation Administration's Office of Airports (ARP) has updated and revised its instructions for implementing the National Environmental Policy Act (NEPA) for airport actions. ARP is replacing Order 5050.4A, Airport Environmental Handbook with the updated and revised instructions in Order 5050.4B, National Environmental Policy Act (NEPA) Implementing Instructions for Airport Actions. This Notice announces the availability of Order 5050.4B and its Preamble. The documents are available at ARP's Web site http://www.faa.gov/airports_airtraffic/airports.

Although APR is presenting the Preamble on its Web site, it is not including the text of that document in this Notice. ARP expects to publish the text in the Federal Register within the next 10 days. This delay is due to publication procedures associated with the extensively detailed Preamble.

DATES: Effective Date: Order 5050.4B is effective on April 28, 2006.

FOR FURTHER INFORMATION CONTACT: Mr. Ed Melisky, FAA Office of Airports, Environmental and Planning Division, FAA, 800 Independence Avenue, SW., Washington, DC 20591; telephone (202) 267-5869. His e-mail address is: edward.melisky@faa.gov.

Distribution: ARP is distributing this Order to ARP personnel and other interested parties by electronic means only. As noted earlier, ARP is also distributing the Preamble electronically, but it will publish the text of that document in the Federal Register.

Anyone without access to the internet may obtain a compact disk (CD) containing the Order and Preamble. Please make that request to the Federal Aviation Administration, Office of Airport Planning and Programming (APP-1), 800 Independence Avenue, SW., Washington, DC, 20591. Those unable to use an electronic version of the Order, may obtain a photocopy of the Order by contacting FAA's rulemaking docket at: Federal Aviation Administration, Office of Chief Council, Attn: Rules Docket (AGC-200)—Docket No. FAA-2004-19058, 800 Independence Avenue, SW., Washington, DC, 20591. Those wanting hard copy versions of the Preamble may obtain them by visiting local libraries or other locations where the Federal Register is available.

SUPPLEMENTARY INFORMATION: ARP published draft Order 5050.4B for public review and comment in the December 16, 2004, Federal Register (Vol. 69, No. 241, p. 75374). The final Order issued today includes changes that respond to many of the comments on the draft Order and other changes ARP deemed necessary since publishing the draft Order. Order 5050.4B supplements and is consistent with the agency-wide protocol that FAA issued in Order 1050.1E, Environmental Impacts, Policies and Procedures on June 8, 2004, (69 FR 33777) and FAA's recent update to that Order (Change 1 to Order 1050.1E, 71 FR 15249, March 27, 2006.).

The following paragraphs summarize the most major changes presented in final order 5050.4B. The Preamble provides much more information on these and other changes.

a. ARP has deleted the summary of requirements and procedures under special purpose environmental laws, regulations, and executive orders outside NEPA (“special purpose laws”). To provide this information and how it relates to airport actions, ARP is preparing and will publish An Environmental Desk Reference for Airport Actions (Desk Reference). The Desk Reference will provide ARP staff and interested parties with information on those special purpose laws and further information on integrating those requirements with NEPA. Until ARP issues the Desk Reference, its personnel and other interested parties should use Appendix A of Order 1050.1E for guidance. Readers should note that Order 5050.4B, Table 7-1, retains information from paragraphs 47.e and 85.a-t of Order 5050.4A that ARP personnel and other practitioners have found helpful in determining impact intensity and the appropriate level of NEPA review.

b. Paragraph 202.c of the final Order discusses various ALP approval options. Particularly, paragraph 202.c(4) notes the approving FAA official may not conditionally approve an ALP depicting a new airport, a new runway, or a major runway extension, when an EA or EIS is being prepared for any of these facilities and actions connected to them. Instead, the approving FAA official may unconditionally approve an ALP depicting those facilities and their connected actions only if FAA has issued a FONSI or ROD that is based on an EA or EIS, respectively, that addresses those airport actions.

c. ARP has revised paragraph 513 in the draft Order (now paragraph 209 of the final Order). Paragraph 209 distinguishes between: (1) FAA grant funding for development of wildlife hazard management plans (WHMPs) and FAA approvals of those plans based on safety factors; and (2) subsequent FAA actions to support implementation of measures in FAA-approved WHMPs. Now, the instructions for FAA NEPA reviews associated with wildlife WHMPs are similar to the instructions for FAA NEPA reviews of airport noise compatibility plans (NCPs). Paragraph 303.b of draft Order 5050.4B noted that the issuance of an AIP grant for an NCP is categorically excluded under paragraph 307n of Order 1050.1E. Paragraph 209a of final Order 5050.4B clarifies that the grant to fund the development of a WHMP or the approval of that plan normally qualifies for categorical exclusion under Order 1050.1E paragraph 308e. Paragraph 209.b final Order 5050.4B states that airport layout plan approvals and/or approvals of grants for Federal funding to carry out measures in FAA-approved WHMPs: (1) May qualify for categorical exclusion; or (2) may require preparation of an environmental assessment or an environmental impact statement.

d. Paragraphs 210 through 214 of final Order 5050.4B provide detailed policies and procedures for FAA's State Block Grant Program (SBGP). ARP presents this detailed guidance to fulfill a commitment FAA made in the Preamble to Order 1050.1E.

e. Chapter 5 of final Order 5050.4B presents information to better integrate airport planning and the NEPA process. Overall, the chapter discusses key planning steps that help FAA and airport sponsors meet their responsibilities and that may help to streamline the planning and NEPA processes. This interdisciplinary coordination is not intended to be a substitute for the NEPA process. Instead, it will facilitate FAA's subsequent evaluation of an airport plan's environmental effects during the NEPA process.

f. Chapter 7 of final Order 5050.4B includes information about environmental assessments (EAs) in one chapter. Paragraph 405 of the draft Order expanded the list of airport actions normally requiring EAs. ARP prepared that list to respond to a number of questions about a variety of actions that Order 5050.4A, paragraph 22 (Actions normally requiring an EA) did not address. Paragraphs 702.a-i of the final Order present the list of actions noted in paragraph 405 of draft Order 5050.4B. However, readers should note that ARP has added paragraph 702.j (“Other circumstances”) to the list in the final Order. That paragraph states the responsible FAA official should consider the need for an EA in circumstances not mentioned in paragraphs 702.a-i of final Order 5050.4B. This is particularly so when controversy exists because the proposed action involves a special purpose law.

g. Chapter 9 of the final Order 5050.4B provides updated information on EISs. Paragraph 902.c encourages responsible FAA officials to consult with interested parties and involved FAA organizations to establish schedules for preparing EISs. The paragraph notes that FAA officials must establish EIS schedules when requested by the airport sponsor. However, practitioners should note even the most thoughtfully developed schedule is subject to events beyond FAA's control that may affect the projected schedule. Paragraph 904.b states that FAA will begin the EIS process as soon as possible after the airport sponsor presents FAA with a proposal. In determining if a proposal exists, FAA will consider whether sufficient airport planning data and information are available to meaningfully evaluate environmental effects of the proposal and its reasonable alternatives.

h. Paragraph 1004 of final Order 5050.4B discusses limitations on FAA and airport sponsor activities during the EIS process. Paragraph 1004.a discusses limits on airport sponsor or FAA activities that would cause adverse effects or limit alternatives during the NEPA process. Paragraph 1004.c discusses FAA concerns about exceeding ARP's recommended “25% design limit.” However, ARP recognizes that an airport sponsor may need to develop plans or designs beyond that limit. Here, an airport sponsor may need more complete design plans to support an application for Federal, State, or local permits or assistance (40 CFR 1506.1(d)). In these cases, designs beyond the “25% design limit” may help to streamline the NEPA process by integrating other environmental review requirements and NEPA. They also may help to reduce paperwork (40 CFR 1500.4(k)) and eliminate duplicating State and local procedures (40 CFR 1500.4(n)).

i. Paragraph 1007.e(4)(b) of final Order 5050.4B provides the criteria the responsible FAA official must consider when determining the “prudence” of an alternative per 49 USC 47106.(c)(1)(B). This section requires the Secretary of Transportation to consider a “possible and prudent alternative” when considering a grant application for a project involving a new airport, a new runway, or a major runway extension having significant adverse effects. Although criteria in paragraph 1007.e(4)(b) apply to decisions for actions involving Section 4(f) resources, FAA is using the definition of “prudent” for major airport projects to aid its staff determine when an alternative is “prudent.” FAA worked with the Federal Highway Administration (FHWA) on the definition as presented in FHWA's March 2005 Section 4(f) guidance ¹ believes it is appropriate for FAA actions.

¹ http://environment.fhwa.gov/dot/projdev/4fpolicy.asp.

j. Paragraphs 708.g(4) and 1301.g recommend that responsible FAA officials use an Environmental Management System (EMS) to ensure the agency and the airport sponsor complete required mitigation. This effort promotes the instructions in Executive Order 13148, Greening the Government Through Leadership in Environmental Management.

k. Chapter 15 provides information on streamlining the EIS process for certain airport projects to address requirements in Vision 100—The Century of Aviation Reauthorization Act (Vision 100). Among other things, Vision 100 requires streamlining the environmental process for airport capacity projects at congested airports. These are airports that account for at least 1% of all delayed aircraft operations in the Nation. Vision 100 also applies to airport safety and airport security projects throughout the Nation, regardless of their congestion levels.

l. ARP has deleted paragraph 407 in the draft Order addressing cumulative impacts. More extensive information on cumulative impacts now appears in paragraph 1007.i of the final Order. ARP will provide more detail on this topic in the Desk Reference.

m. ARP has also deleted an example of a “third party” Memorandum of Understanding and the “short-form” environmental assessment that were included as Appendices 2 and 3 of draft Order 5050.4B. ARP will place these examples and other information that ARP has found helpful in the Desk Reference.

Dated: April 25, 2006.
Dennis E. Roberts,
Director, Office of Airport Planning and Programming, APP-1.

[FR Doc. 06-4036 Filed 4-25-06; 4:26 pm]

BILLING CODE 4910-13-M